DEPARTMENT OF TRANSPORTATION

National Highway Traffic Safety Administration

[U.S. DOT Docket No. NHTSA-2008-0091]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before June 30, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey AVE, SE., Washington, DC 20590.

• Hand Delivery: U.S. Department of Transportation, Docket Operations, M-30, West Building Ground Floor, Room W12-140, 1200 New Jersey AVE, SE., Washington, DC 20590, between 9 a.m. and 5 p.m., Monday through Friday, except Federal holidays.

FOR FURTHER INFORMATION CONTACT: Jonathan Walker, Ph.D., Contracting Officer's Technical Representative, Office of Regulatory Analysis and Evaluation, National Highway Traffic Safety Administration, 1200 New Jersey AVE, SE., Room W53-463, Washington, DC 20590. Dr. Walker's phone number is 202-366-8571 and his e-mail address is Jonathan.Walker@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA asks public comment on the following proposed collection of information:

2008 National Survey on Reported and Unreported Motor Vehicle Crashes

Type of Request—New information collection requirement.

OMB Clearance Number—None.

Form Number—This collection of information uses no standard forms.

Requested Expiration Date of Approval—August 30, 2009.

Summary of the Collection of Information—NHTSA proposes to conduct a National Survey on Reported and Unreported Motor Vehicle Crashes by telephone among a sample of 2,000 adults (age 16 and older) who were involved in a motor vehicle crash in the past twelve months. Participation by respondents would be voluntary. NHTSA's information needs require a telephone survey on a national probability sample of drivers in the United States that will allow national estimates of the annualized incidence and severity of unreported crashes in the United States to be made. The questionnaire focuses on the extent of any injuries and property damage which were a result of the crash the respondent was involved in. Standard demographics are asked at the end of the interview.

In conducting the proposed survey, the interviewers would use computer-assisted telephone interviewing to reduce interview length and minimize recording errors. A Spanish-language translation and bilingual interviewers would be used to minimize language barriers to participation. The proposed survey would be anonymous and confidential.

Description of the Need for the information and Proposed Use of the Information—The National Highway Traffic Safety Administration (NHTSA) was established to reduce the mounting number of deaths, injuries and economic losses resulting from motor vehicle crashes on the Nation's highways. As part of this statutory mandate, NHTSA is authorized to conduct research as a foundation for the development of motor vehicle standards and traffic safety programs. In 1981, the National Highway Traffic Safety Administration (NHTSA) published the results of a telephone survey: NATIONAL ACCIDENT SAMPLING SYSTEM, NONREPORTED ACCIDENT SURVEY. Because NASS (then called the National Accident Sampling System and now called the National Automotive Sampling System) samples only police-reported crashes, non-reported crashes are missed. Many of these are minor ‘vehicle-damage-only’ crashes that do not involve deaths or injuries. However, even these crashes add to the total cost of traffic crashes, not only in expensive vehicle repairs but also in damage to public and private roadside structures. In addition, even injury crashes may go unreported if police or emergency personnel are not aware of them. Occupants may self-medicate or go to their personal physician if the injuries are not life threatening. The costs of these treatments and accompanying absenteeism need to be added to the total cost of traffic crashes.

Any crash may go unreported if drivers are not aware of the reporting requirement or if they fear various consequences. Such consequences include increased insurance rates, prosecution for illegal acts during the crash (driving while intoxicated, driving without a license, et cetera) or for long-standing illegalities (outstanding warrants, illegal alien status). Individuals may avoid reporting crashes for other reasons, including not wanting to be bothered by the paperwork.

During the past 25 years, cars have become safer (at the expense to the vehicle) suggesting that the percentage of damage-only, unreported crashes has also increased. Also, the recent 100-Car Naturalistic Driving Study suggests that the ratio may be much higher. They found 15 reported crashes and 67 unreported crashes, a ratio of more than four to one. The ratio in the original telephone study was one to one.

NHTSA is seeking to improve the accuracy of its estimates of the total costs of motor vehicle crashes in the US. Accurate total crash cost data is necessary for NHTSA to determine the extent to which proposed regulations are cost effective. Congress also needs better data on the costs of crashes when it considers legislative remedies. The general public will also benefit from having better understanding of the full cost of crashes, as such information can be helpful when deciding whether to support initiatives such as Graduated Licensing or rules for improving crashworthiness.

Description of the Likely Respondents (Including Estimated Number, and Proposed Frequency of Response to the Collection of Information)—Under this proposed effort, the Contractor would conduct telephone interviews averaging approximately 15 minutes in length with 2,000 randomly selected members of the general public age 16 and older in telephone households who had been involved in a crash in the past twelve months. The respondent sample would be selected from all 50 States and the District of Columbia. Interviews would be conducted with persons at residential phone numbers selected through random digit dialing. Businesses are ineligible for the sample and would not be interviewed. No more than one respondent would be selected per household. Each member of the sample would complete one interview.

Estimate of the Total Annual Reporting and Recordkeeping Burden Resulting From the Collection of Information—NHTSA estimates that 10% of the general population has been involved in a motor vehicle crash in the past year. In order to achieve a sample size of 2,000, a total of 20,000 individuals must be contacted and screened. The 18,000 individuals who are contacted, but have not been involved in a motor vehicle crash in the past twelve months, would require an average of 3 minutes to complete the screener questionnaire for a total of 900 hours. Each respondent in the final survey sample of 2,000 crash victims would require an average of 15 minutes to complete the telephone interview or a total of 500 hours. Thus, the number of estimated reporting burden hours a year on the general public would be 1,400 for the proposed survey (900 for the screener questionnaire, and 500 for the full survey administration). The respondents would not incur any reporting cost from the information collection. The respondents also would not incur any recordkeeping burden or recordkeeping cost from the information collection.

Authority: 44 U.S.C. Section 3506(c)(2)(A).

James Simons,
Director, Office of Regulatory Analysis and Evaluation.

BILLING CODE 4910-59-P

[FR Doc. E8-9648 Filed 5-1-08; 8:45 am]

BILLING CODE 4910-59-P